DEPARTMENT OF TRANSPORTATION

Notice of Meeting of the Advisory Council on Transportation Statistics (ACTS) of the Office of the Assistant Secretary for Research and Technology (OST-R)

AGENCY: Bureau of Transportation Statistics (BTS), U.S. Department of Transportation (DOT).

ACTION: Notice of meeting.

This notice announces, pursuant to Section 10(a)(2) of the Federal Advisory Committee Act (FACA) (Pub. L. 72-363; 5 U.S.C. app. 2), a meeting of the Advisory Council on Transportation Statistics (ACTS). The meeting will be held on Thursday, September 10th, 2015 from 8:30 a.m. to 4:00 p.m. EST at the U.S. Department of Transportation, Room E37-302, 1200 New Jersey Ave. SE., Washington, DC. Section 52011 of the Moving Ahead for Progress in the 21st Century Act (MAP-21) directs the U.S. Department of Transportation to establish an Advisory Council on Transportation Statistics subject to the Federal Advisory Committee Act (5 U.S.C., App. 2) to advise the Bureau of Transportation Statistics (BTS) on the quality, reliability, consistency, objectivity, and relevance of transportation statistics and analyses collected, supported, or disseminated by the Bureau and the Department. The following is a summary of the draft meeting agenda: (1) USDOT Welcome and Introduction of Council Members; (2) Update on Current BTS Issues; (3) Discussion about Future Data Products; (4) Program Review; (5) Public Comments and Closing Remarks. Participation is open to the public.

Members of the public who wish to participate must notify Mr. D.Senay Gales at d.senay.gales@dot.gov, not later than August 31, 2015. Members of the public may present oral statements at the meeting with the approval of Patricia Hu, Director of the Bureau of Transportation Statistics. Non-committee members wishing to present oral statements or obtain information should contact Mr. D.Senay Gales via email no later than August 31, 2015. Questions about the agenda or written comments may be emailed to D.Senay.Gales@dot.gov or submitted by U.S. Mail to: U.S. Department of Transportation, Office of the Assistant Secretary for Research and Technology, Bureau of Transportation Statistics, Attn: Mr. D.Senay Gales, 1200 New Jersey Avenue SE., Room #E34-429, Washington, DC 20590, or faxed to (202) 366-3383. BTS requests that written comments be received by August 31, 2015. Access to the DOT Headquarters building is controlled therefore all persons who plan to attend the meeting must notify Mr. Gales at 202-366-1270 prior to August 31, 2015. Individuals attending the meeting must report to the main DOT entrance on New Jersey Avenue SE., for admission to the building. Attendance is open to the public, but limited space is available. Persons with a disability requiring special services, such as an interpreter for the hearing impaired, should contact Mr. D.Senay Gales at 202-366-1270 at least seven calendar days prior to the meeting.

Notice of this meeting is provided in accordance with the FACA and the General Services Administration regulations (41 CFR part 102-3) covering management of Federal advisory committees.

Issued in Washington, DC, on the 18th day of August 2015.
Rolf Schmitt,
Deputy Director, Bureau of Transportation Statistics.

[FR Doc. 2015-20969 Filed 8-24-15; 8:45 am]

BILLING CODE 4910-9X-P